DEPARTMENT OF HEALTH AND HUMAN SERVICES

Centers for Medicare & Medicaid Services

[Document Identifier: CMS-287-19]

Agency Information Collection Activities: Submission for OMB Review; Comment Request;

ACTION: Partial Withdrawal.

On Tuesday, December 17, 2019 (84 FR 68936), the Centers of Medicare & Medicaid Services (CMS) published a Notice document titled “Agency Information Collection Activities: Submission for OMB Review; Comment Request.” That notice invited public comments on four separate information collection requests. Through the publication of this document, we are withdrawing the portion of the notice requesting public comment on the information collection request titled “Home Office Cost Statement” Form number: CMS-287-19 (OMB control number: 0938-0202). The notice for CMS-287-19 published in error. We will resubmit it for public comment at a later date. The original comment period for the other notices that published on December 17, 2019 (84 FR 68936) remains in effect and ends January 16, 2020.

Dated: December 18, 2019.
William N. Parham, III,
Director, Paperwork Reduction Staff, Office of Strategic Operations and Regulatory Affairs.

[FR Doc. 2019-27667 Filed 12-20-19; 8:45 am]

BILLING CODE 4120-01-P